DEPARTMENT OF LABOR

Employment and Training Administration

INVESTIGATIONS REGARDING CERTIFICATIONS OF ELIGIBILITY TO APPLY FOR WORKER ADJUSTMENT ASSISTANCE

Petitions have been filed with the Secretary of Labor under section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

the petitioners or any other persons showing a substantial interest in the subject matter of the investigations may request a public hearing, provided such request if filed in writing with the Director, Division of Trade Adjustment Assistance, at the address shown below, not later than April 15, 2002.

Interested persons are invited to submit written comments regarding the subject matter of the investigations to the Director, Division of Trade Adjustment Assistance, at the address shown below, not later than April 15, 2002.

The petitions filed in this case are available for inspection at the Office of the Director, Division of Trade Adjustment Assistance, Employment and Training Administration, U.S. Department of Labor, Room C-5311, 200 Constitution Avenue, NW., Washington, DC 20210.

Dated: Signed at Washington, DC, this 19th day of February, 2002.
Edward A. Tomchick,
Director, Division of Trade Adjustment Assistance.

Appendix
[Petitions instituted on 02/19/2002]
TA-W | Subject firm (Petitioners) | Location | Date of petition | Product(s)
40,821 | Gethchell Gold (Comp) | Golconda, NV | 01/03/2002 | Gold.
40,822 | Daniel Measurement (Comp) | Statesboro, GA | 09/05/2001 | Valves and Turbines.
40,823 | Glenayre Electronics (Wkrs) | Quincy, IL | 01/10/2002 | Messaging Voice Platform, Paging Switch.
40,824 | Fort Dearborn Co. (Wkrs) | Coldwater, MI | 01/08/2002 | Labels for Food Containers.
40,825 | Artex International (Wkrs) | West Point, MS | 10/16/2001 | Tables Linens.
40,826 | Leemah Electronics (Wkrs) | San Francisco, CA | 11/30/2001 | Circuit Boards.
40,827 | Argus International (Wkrs) | Medley, FL | 01/07/2002 | Cut Fabrics for Garments.
40,828 | Citizens Gas and Coke (IBEW) | Indianapolis, IN | 01/21/2002 | Foundry and Blast Furnace Coke.
40,829 | Scientific Molding (Wkrs) | Brownsville, TX | 12/04/2001 | Spiral Saws.
40,830 | Wire Rope Corp. of America (Wkrs) | Kansas City, MO | 01/16/2002 | Drawn Bright Wire.
40,831 | Burrows Packaging Corp (Wkrs) | Little Falls, NY | 12/31/2001 | Food Containers.
40,832 | King Press Corp (Comp) | Joplin, MO | 12/18/2001 | Printing Presses.
40,833 | Pittsburgh Annealing Box (USWA) | Pittsburgh, PA | 12/18/2001 | Steel Fittings and Welding.
40,834 | Levolor Kirsch Window (Comp) | Westminster, CA | 01/28/2002 | Window Blinds.
40,835 | Leybold Vacuum USA (Wkrs) | Export, PA | 12/07/2001 | Dry Vacuum Pumps.
40,836 | Badger States Tanning (Wkrs) | Milwaukee, WI | 01/18/2002 | Suede Leather Splits for Shoes.
40,837 | Golden Books Publishing (Comp) | Racine, WI | 01/10/2002 | Customer Support—Publish Children Books.
40,838 | Pannier Corp. (IAW) | Pittsburgh, PA | 12/11/2001 | Metal Tags, Printers, Lasers.
40,839 | BMP America (Comp) | Portland, OR | 01/07/2002 | Components—Office Automation Industry.
40,840 | Bradley Scott (UNITE) | Fall River, MA | 10/26/2001 | Ladies' and Men's Jackets.
40,841 | FCI USA (Wkrs) | Emigsville, PA | 01/07/2002 | Electrical Connectors.

[FR Doc. 02-8270 Filed 4-4-02; 8:45 am]

BILLING CODE 4510-30-M